COMMITTEE FOR PURCHASE FROM PEOPLE WHO ARE BLIND OR SEVERELY DISABLED

Procurement List; Proposed Additions

AGENCY: Committee for Purchase From People Who Are Blind or Severely Disabled.

ACTION: Proposed additions to Procurement List.

SUMMARY: The Committee is proposing to add to the Procurement List a product and services to be furnished by nonprofit agencies employing persons who are blind or have other severe disabilities.

Comments Must be Received on or Before: June 18, 2006.

ADDRESSES: Committee for Purchase From People Who Are Blind or Severely Disabled, Jefferson Plaza 2, Suite 10800, 1421 Jefferson Davis Highway, Arlington, Virginia, 22202-3259.

For Further Information or to Submit Comments Contact: Mary-Carolyn Bell, Telephone: (703) 603-7740, Fax: (703) 603-0655, or e-mail mbell@jwod.gov.

SUPPLEMENTARY INFORMATION: This notice is published pursuant to 41 U.S.C 47(a) (2) and 41 CFR 51-2.3. Its purpose is to provide interested persons an opportunity to submit comments on the proposed actions.

If the Committee approves the proposed additions, the entities of the Federal Government identified in the notice for each product or service will be required to procure the product and services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the product and services to the Government.

2. If approved, the action will result in authorizing small entities to furnish the product and services to the Government.

3. There are no known regulatory alternatives which would accomplish the objectives of the Javits-Wagner-O'Day Act (41 U.S.C. 46-48c) in connection with the product and services proposed for addition to the Procurement List.

Comments on this certification are invited. Commenters should identify the statement(s) underlying the certification on which they are providing additional information.

End of Certification

The following products and services are proposed for addition to Procurement List for production by the nonprofit agencies listed:

Product

Product/NSN: Cup, Water Canteen, 8465-00-165-6838—Cup, Water Canteen.

NPA: The Lighthouse for the Blind, Inc. (Seattle Lighthouse), Seattle, Washington.

Contracting Activity: Defense Supply Center Philadelphia, Philadelphia, Pennsylvania.

Services

Service Type/Location: Custodial Services, 15th MDG Facilities, Life Skills, Bldg 554, Hickam AFB, Hawaii.

NPA: Network Enterprises, Inc., Honolulu, Hawaii.

Contracting Activity: 15th Contracting Squadron, Hickam Air Force Base, Hawaii.

Service Type/Location: Custodial Services, Grand Prairie Reserve Center Complex, Bldgs. 303, 308, 370, 397, 310 Army Drive, Grand Prairie, Texas.

NPA: Goodwill Industries of Fort Worth, Inc., Fort Worth, Texas.

Contracting Activity: 90th Regional Readiness Command, North Little Rock, Arkansas.

Service Type/Location: Grounds Maintenance, Fort Douglas, Salt Lake City, Utah.

NPA: Community Foundation for the Disabled, Inc., Salt Lake City, Utah.

Contracting Activity: U.S. Army, 96th Regional Support Command, Salt Lake City, Utah.

Patrick Rowe,
Deputy Executive Director.

[FR Doc. E6-7630 Filed 5-18-06; 8:45 am]

BILLING CODE 6353-01-P